DEPARTMENT OF STATE

[Public Notice: 6989]

30-Day Notice of Proposed Information Collection: DS-5501, Electronic Diversity Visa Entry Form, OMB Control Number 1405-0153

ACTION: Notice of request for public comment and submission to OMB of proposed collection of information.

SUMMARY: The Department of State has submitted the following information collection request to the Office of Management and Budget (OMB) for approval in accordance with the Paperwork Reduction Act of 1995.

• Title of Information Collection: Electronic Diversity Visa Entry Form.

• OMB Control Number: 1405-0153.

• Type of Request: Extension of Currently Approved Collection.

• Originating Office: Bureau of Consular Affairs, Office of Visa Services (CA/VO).

• Form Number: DS-5501.

• Respondents: Aliens entering the Diversity Visa Lottery.

• Estimated Number of Respondents: 6,000,000.

• Estimated Number of Responses: 6,000,000.

• Average Hours Per Response: 30 minutes.

• Total Estimated Burden: 3,000,000 hours.

• Frequency: Once per entry.

• Obligation to Respond: Required to Obtain Benefits.

DATES: Submit comments to the Office of Management and Budget (OMB) for up to 30 days from May 6, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus, of the Office of Visa Services, U.S. Department of State, 2401 E. Street, NW., L-603, Washington, DC 20522, who may be reached on 202-663-2910.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection:

The Department of State utilizes the Electronic Diversity Visa Lottery (EDV) Entry Form to elicit information necessary to ascertain the applicability of the legal provisions of the diversity program. Primary requirements are that the applicant is from a low admission country, is a high school graduate, or has two years of experience in a job that requires two years of training. The individuals complete the electronic entry forms and then applications are randomly selected for participation in the program.

Methodology:

The EDV Entry Form is available online at http://www.dvlottery.state.gov and can only be submitted electronically during the annual registration period.

Dated: April 19, 2010.
Edward J. Ramotowski,
Deputy Assistant Secretary, Acting Bureau of Consular Affairs, Department of State.

[FR Doc. 2010-10710 Filed 5-5-10; 8:45 am]

BILLING CODE 4710-06-P